ENVIRONMENTAL PROTECTION AGENCY

[FRL-6710-1]

Agency Information Collection Activities: Submission for OMB Review; Comment Request, EPA's WasteWise Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting and Recordkeeping Requirements Under EPA's WasteWise Program; OMB Control No. 2050-0139; expiring July 31, 2000. The ICR describes the nature of the information collection and its expected burden and cost; where appropriate, it includes the actual data collection instrument.

DATES: Comments must be submitted on or before July 6, 2000.

FOR FURTHER INFORMATION CONTACT: Sandy Farmer at EPA by phone at (202) 260-2740, by E-Mail at Farmer.Sandy@epamail.epa.gov or download a copy of the ICR off the Internet at http://www.epa.gov/icr and refer to EPA ICR No. 1698.04. For technical questions about the ICR contact Barbara A. Nichols on 703-308-8659.

SUPPLEMENTARY INFORMATION: Title: Reporting and Recordkeeping Requirements Under EPA's WasteWise Program, OMB Control No. 2050-0139; EPA ICR No. 1698.04, expiration date July 31, 2000. This is a request for extension of a currently approved collection.

Abstract: EPA's voluntary WasteWise program encourages businesses and other organizations to reduce solid waste through waste prevention, recycling, and the purchase or manufacture of recycled-content products. WasteWise participants include Partners, which commit to implementing waste reduction activities of choice, and Endorsers, which choose to promote the WasteWise program and waste reduction to their members. Endorsers, which are typically trade associations or other membership-based organizations, are asked to submit only a one-page form, the Endorser Registration Form. This form identifies the organization, principal contact, and the activities to which the Endorser commits. Partners are asked to fill out three forms as follows. The Partner Registration Form identifies the organization and the facilities that will participate in WasteWise. Each Partner develops its own waste reduction goals and submits a one-page Goals Identification Form to EPA every three years. Partners also report annually on the progress made toward achieving these goals in the Annual Reporting Form.

The EPA WasteWise program uses the voluntarily submitted information to: (1) Identify and recognize outstanding waste reduction achievements by individual organizations, (2) compile aggregate results that indicate overall accomplishments of WasteWise Partners, (3) identify cost-effective waste reduction strategies to share with other organizations, and (4) identify topics on which to develop assistance and information efforts.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on March 2, 2000 (65 FR 11304). No comments were received.

Burden Statement: The annual public reporting and recordkeeping burden for this collection of information is estimated to average 37 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: WasteWise Program Volunteers.

Estimated Number of Respondents: 1270.

Frequency of Response: On Occasion, annually.

Estimated Total Annual Hour Burden: 64,260.

Estimated Total Annualized Capital, O&M Cost Burden: 0.

Send comments on the Agency's need for this information, the accuracy of the provided burden estimates, and any suggested methods for minimizing respondent burden, including through the use of automated collection techniques to the following addresses. Please refer to EPA ICR No. 1698.04 and OMB Control No. 2050-0139 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 30, 2000.
Oscar Morales,
Director, Collection Strategies Division.

[FR Doc. 00-14182 Filed 6-5-00; 8:45 am]

BILLING CODE 6560-50-P